DEPARTMENT OF HOUSING AND URBAN DEVELOPMENT

[Docket No. FR-5758-N-14]

60-Day Notice of Proposed Information Collection: Strong Cities Strong Communities National Resource Network

AGENCY: Office of the Assistant Secretary for Policy Development & Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 15, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: National Resource Network Program Evaluation and Engagements.

OMB Approval Number: 2528-0289.

Type of Request: This is a revision to the existing information collection for the SC2 Network.

Form Number: N/A.

Description of the need for the information and proposed use: The Strong Cities Strong Communities National Resource Network (SC2 Network) provides comprehensive technical assistance to cities with populations of 40,000 or more that are experiencing long-term economic challenges as evidenced by population decline, high unemployment rates, high poverty, and low education attainment. The SC2 Network is seeking to evaluate its program through a combination of site visits, surveys, interviews, and quantitative and qualitative data collection. In addition, the SC2 Network will solicit information from cities to provide direct technical assistance. Such information includes information related to population; employment rates; poverty; education attainment; fiscal and economic distress; priorities, goals, and initiatives of local government; regional partnerships or efforts; types of direct assistance that could improve a city's economic outcome; support from political and community leadership; city budgets; and comprehensive annual financial reports.

Respondents: Respondents are from local governments, as well as from anchor institutions, and public and private organizations that work with local governments.

Estimated Number of Respondents: The estimated number of respondents to complete surveys, interviews, and/or provide data collection is estimated to be 120 respondents. The estimated number of respondents to provide information to the SC2 Network to solicit for direct technical assistance is estimated to be 500.

Estimated Number of Responses: The estimated number of responses for surveys, interviews, and/or data collection is estimated to be 240. The estimated number of responses for direct technical assistance is 1000.

Frequency of Response: The frequency of response for both survey, interview, and/or data collection, and direct technical assistance is twice per solicitation.

Average Hours per Response: The average hour per response for surveys, interview, and/or data collection is 1.5 hours. The average hour per response for direct technical assistance is 1 hour.

Total Estimated Burdens: The total estimated burden for surveys, interview, and/or data collection is 360 hours. The total estimated burden hours for direct technical assistance is 1000 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: October 7, 2014.
Katherine M. O'Regan,
Assistant Secretary for Policy Development and Research.

[FR Doc. 2014-24521 Filed 10-14-14; 8:45 am]

BILLING CODE 4210-67-P